ENVIRONMENTAL PROTECTION AGENCY

40 CFR Part 52

[CA 224-0279b; FRL-6982-7]

Revisions to the California and Arizona State Implementation Plans, Antelope Valley Air Pollution Control District and Maricopa County Environmental Services Department

AGENCY: Environmental Protection Agency (EPA).

ACTION: Proposed rule.

SUMMARY: EPA is proposing to approve revisions to the Antelope Valley Air Pollution Control District (AVAPCD) and Maricopa County Environmental Services Department (MCESD) portions of the respective California and Arizona State Implementation Plans (SIPs). These revisions concern volatile organic compound (VOC) emissions from solvent cleaning operations and automotive windshield washer fluid use. We are proposing to approve local rules to regulate these emission sources under the Clean Air Act as amended in 1990 (CAA or the Act).

DATES: Any comments on this proposal must arrive by June 25, 2001.

ADDRESSES: Mail comments to Andy Steckel, Rulemaking Office Chief (AIR-4), U.S. Environmental Protection Agency, Region IX, 75 Hawthorne Street, San Francisco, CA 94105-3901.

You can inspect copies of the submitted SIP revisions and EPA's technical support documents (TSDs) at our Region IX office during normal business hours. You may also see copies of the submitted SIP revisions at the following locations:

California Air Resources Board, Stationary Source Division, Rule Evaluation Section, 1001 “I” Street, Sacramento, CA 95814.

Arizona Department of Environmental Quality, 3033 North Central Avenue, Phoenix, AZ 85012.

Antelope Valley Air Pollution Control District, 43301 Division Street, Suite 206, Lancaster, CA 93539.

Maricopa County Environmental Services Department, Air Quality Division, 1001 North Central Avenue, Suite 201, Phoenix, AZ 85004.

FOR FURTHER INFORMATION CONTACT: Yvonne Fong, Rulemaking Office (Air-4), U.S. Environmental Protection Agency, Region IX, (415) 744-1199.

SUPPLEMENTARY INFORMATION: This proposal addresses the following local rules: AVAPCD 1171 and MCESD 344. In the Rules and Regulations section of this Federal Register, we are approving these local rules in a direct final action without prior proposal because we believe these SIP revisions are not controversial. If we receive adverse comments, however, we will publish a timely withdrawal of the direct final rule and address the comments in subsequent action based on this proposed rule. We do not plan to open a second comment period, so anyone interested in commenting should do so at this time. If we do not receive adverse comments, no further activity is planned. For further information, please see the direct final action.

Dated: April 27, 2001.
Michael Schulz,
Acting Regional Administrator, Region IX.

[FR Doc. 01-13046 Filed 5-23-01; 8:45 am]

BILLING CODE 6560-50-P